ENVIRONMENTAL PROTECTION AGENCY

40 CFR Part 63

[FRL-7147-8]

RIN 2060-AH17

National Emission Standards for Hazardous Air Pollutants for Leather Finishing Operations

AGENCY: Environmental Protection Agency (EPA).

ACTION: Final rule.

SUMMARY: This action promulgates national emission standards for hazardous air pollutants (NESHAP) for leather finishing operations. The EPA has identified these facilities as major sources of emissions of hazardous air pollutants (HAP), such as glycol ethers, toluene, and xylene. These NESHAP will implement section 112(d) of the Clean Air Act (CAA) by requiring all leather finishing operations that are major sources to meet HAP emission standards reflecting the application of the maximum achievable control technology (MACT). We estimate the final NESHAP will reduce nationwide emissions of HAP from leather finishing operations by 375 tons per year (tpy). In addition, the final NESHAP will reduce non-HAP emissions of volatile organic compounds (VOC) by 750 tpy. The emissions reductions achieved by these final NESHAP, when combined with the emissions reductions achieved by other similar standards, will provide protection to the public and achieve a primary goal of the CAA.

EFFECTIVE DATE: The effective date is February 27, 2002. The incorporation by reference of certain publications listed in the regulation is approved by the Director of the Federal Register as of February 27, 2002.

ADDRESSES: Docket. Docket No. A-99-38 contains the information considered by EPA in developing the NESHAP. This docket is located at the U.S. EPA, Air and Radiation Docket and Information Center (Mail Code 6102), 401 M Street, SW, Room M-1500, Waterside Mall, Washington, DC 20460. The docket may be inspected from 8:30 a.m. to 5:30 p.m., Monday through Friday, excluding legal holidays.

FOR FURTHER INFORMATION CONTACT: For information concerning applicability and rule determinations, contact the appropriate State or local agency representative. If no State or local representative is available, contact the EPA Regional Office staff listed in § 63.13. For information concerning the analyses performed in developing these NESHAP, contact Mr. William Schrock, Organic Chemicals Group, Emission Standards Division, (MD-13), U.S. EPA, Research Triangle Park, North Carolina 27711; telephone number (919) 541-5032; facsimile number (919) 541-3470; electronic mail address: schrock.bill@epa.gov.

SUPPLEMENTARY INFORMATION: Docket. The docket is an organized and complete file of all the information considered by the EPA in the development of this rulemaking. The docket is a dynamic file because material is added throughout the rulemaking process. The docketing system is intended to allow members of the public and industries involved to readily identify and locate documents so that they can effectively participate in the rulemaking process. Along with the proposed and promulgated standards and their preambles, the contents of the docket will serve as the record in the case of judicial review. (See section 307(d)(7)(A) of the CAA.) The regulatory text and other materials related to this rulemaking are available for review in the docket or copies may be mailed on request from the Air Docket by calling (202) 260-7548. A reasonable fee may be charged for copying docket materials.

Public Comments. The NESHAP for leather finishing operations were proposed on October 2, 2000 (65 FR 58702) and seven comment letters were received on the proposal. The comment letters are available in Docket A-99-38, along with a summary of the comment letters and EPA's responses to the comments. In response to the public comments, EPA adjusted the final NESHAP where appropriate.

World Wide Web (WWW). In addition to being available in the docket, an electronic copy of today's final NESHAP will also be available on the WWW through the Technology Transfer Network (TTN). Following the Administrator's signature, a copy of the NESHAP will be posted on the TTN's policy and guidance page for newly proposed or final rules at http://www.epa.gov/ttn/oarpg. The TTN provides information and technology exchange in various areas of air pollution control. If more information regarding the TTN is needed, call the TTN HELP line at (919) 541-5384.

Regulated Entities. Categories and entities potentially regulated by this action include:

Category | SIC Code | NAICS Code | Examples of regulated entities
Industry | 3111 | 3161 | Leather finishing operations.
Federal government |  |  | Not affected.
State/local/tribal government |  |  | Not affected.

This table is not intended to be exhaustive, but rather provides a guide for readers regarding entities likely to be regulated by this action. Not all facilities classified under the NAICS or SIC codes are affected. Other types of entities not listed could be affected. To determine whether your facility is regulated by this action, you should examine the applicability criteria in § 63.5285 of the final NESHAP. If you have any questions regarding the applicability of this action to a particular entity, consult the person listed in the preceding FOR FURTHER INFORMATION CONTACT section.

Judicial Review. The NESHAP for leather finishing operations were proposed on October 2, 2000 (65 FR 58702). This action announces the EPA's final decision on the NESHAP. Under section 307(b)(1) of the CAA, judicial review of these NESHAP is available by filing a petition for review in the U.S. Court of Appeals for the District of Columbia Circuit by April 29, 2002. Only those objections to this rule which were raised with reasonable specificity during the period for public comment may be raised during judicial review. Under section 307(b)(2) of the CAA, the requirements that are the subject of today's final NESHAP may not be challenged later in civil or criminal proceedings brought by the EPA to enforce these requirements.

Outline. The information presented in this preamble is organized as follows:

I. What are the environmental, energy and economic impacts?

II. What changes and clarifications did we make since proposal?

A. Product Process Operations

B. MACT Floor Determination

C. Definitions

D. Clarifications

III. How did we respond to significant comments?

A. Rule Applicability

B. MACT Floor Determination

C. Product Process Operations

D. Definitions

IV. What are the Administrative Requirements for this rule?

A. Executive Order 12866, Regulatory Planning and Review

B. Executive Order 13132, Federalism

C. Executive Order 13175, Consultation and Coordination with Indian Tribal Governments

D. Executive Order 13045, Protection of Children from Environmental Health Risks and Safety Risks

E. Unfunded Mandates Reform Act

F. Regulatory Flexibility Act (RFA), as Amended by the Small Business Regulatory Enforcement Fairness Act of 1996 (SBREFA), 5 U.S.C. 601 et seq.

G. Paperwork Reduction Act

H. National Technology Transfer and Advancement Act of 1995

I. Congressional Review Act

J. Executive Order 13211, Actions Concerning Regulations that Significantly Affect Energy Supply, Distribution or Use

I. What Are the Environmental, Energy, and Economic Impacts?

The nationwide environmental and cost impacts for today's final rule are the same as for the proposed rule. For all affected sources, we determined the total capital cost associated with the MACT level of control is approximately $5.6 million, and a total annualized cost of approximately $440,000 per year. The total annualized costs include the annualized capital costs and the costs associated with compliance monitoring, recordkeeping, and reporting.

We determined the overall cost associated with the MACT level of control to be about $1,300 per ton of HAP emissions reduced. The MACT level of control will reduce HAP emissions from existing sources by approximately 375 tpy, a reduction of approximately 51 percent. We do not expect any significant secondary air emissions, wastewater, solid waste, or energy impacts resulting from the final rule.

Additional information on the costs and environmental impacts of control options are discussed in the following four documents, which can be found in docket A-99-38:

(1) National Emission Standards for Hazardous Air Pollutants: Leather Finishing Operations, proposed rule (65 FR 58702, October 2, 2000).

(2) “Public Comments and EPA Responses to the Proposed NESHAP for Leather Finishing Operations,” memorandum dated July 17, 2001.

(3) “Environmental and Energy Impacts for Leather Tanning and Finishing MACT Floor Regulatory Option,” memorandum dated September 30, 1999.

(4) “Cost Impacts Associated with HAP Emissions Reductions for Leather Tanning and Finishing Operations,” September 2, 1999.

The economic impacts of the MACT floor are discussed in the proposed rule and in the document, “Economic Impact Analysis of Leather Tanning and Finishing Operations NESHAP.” The major findings regarding the economic impacts of the rule have not changed as a result of public comments on the proposed rule. The total annualized costs associated with these final NESHAP are approximately $440,000 in 1997 dollars. This cost represents only 0.014 percent of total industry revenues based on 1996 value of shipments. Because the total annualized costs associated with complying with the final NESHAP are such a small percentage of total market revenues (value of shipments), it is unlikely that market prices or production will change as a result of these final NESHAP. As an alternative to performing a market analysis, we evaluated the cost impacts on facility and firm revenues. The calculation of cost-to-sales ratios projects that only one firm (owning one facility) will have an impact that is greater than 1 percent of revenues (1.52 percent). All other firms have impacts well below ⅒th of 1 percent and range from 0.00 percent to 0.09 percent of firm revenues. Given that overall costs represent a small fraction of industry revenues, and individual firm revenues experience minimal impacts, we conclude that economic impacts associated with this final rule will be negligible.

II. What Changes and Clarifications Did We Make Since Proposal?

This section describes the major changes made in response to public comments and several clarifications that did not change any of the proposed regulatory requirements.

A. Product Process Operations

In the final rule, we have assigned the same HAP emission limit to the water-resistant leather product process operations and specialty leather finishing product process operations. Thus, the product process operation is now referred to as “water-resistant/specialty.” In the final rule, we have also added a definition for “specialty leather.” Under the proposed rule, specialty leather finishing had been categorized as a nonwater-resistant leather product process operation with a corresponding lower HAP emission limit.

B. MACT Floor Determination

In the final rule, we revised the MACT emission limits as follows:

(1) The MACT emission limit for existing sources with upholstery leather (less than 4 grams finish add-on per square foot) product process operations was decreased from 7.1 to 6.8 pounds of HAP per 1,000 square feet of leather processed.

(2) The MACT emission limit for new sources with upholstery leather (less than 4 grams finish add-on per square foot) product process operations was decreased from 2.9 to 2.5 pounds of HAP per 1,000 square feet of leather processed.

(3) The MACT emission limit for existing sources with water-resistant/specialty leather product process operations was decreased from 5.9 to 5.6 pounds of HAP per 1,000 square feet of leather processed. The revised definition of water-resistant product process operations to include specialty leather increases the emission limit for specialty leather product process operations from 3.4 to 5.6 pounds of HAP per 1,000 square feet of leather processed.

(4) The MACT emission limit for existing sources with nonwater-resistant leather product process operations was increased from 3.4 to 3.7 pounds of HAP per 1,000 square feet of leather processed.

C. Definitions

We have revised the definition of “leather finishing” to include dyes or other non film-forming coatings. We have also included a definition to describe a new term, “specialty leather.”

D. Clarifications

In the final rule, we have clarified the following points:

(1) Facilities that finish leather solely for research and development purposes are not subject to this rule.

(2) The quantity of leather shipped can be used as a surrogate for the quantity of leather processed in a particular month.

(3) The quantity of leather processed cannot be recounted when the leather needs additional finishing or reworking, unless the piece of leather is completely stripped of all applied finishes and reprocessed through the entire finishing operation as if it were a new piece of leather.

(4) Paper or cardstock may be used as a substrate material for determining the mass of finish add-on.

(5) We updated the Maeser Flexes standard testing method to ASTM Standard D2099-00.

(6) A total of 36 samples (i.e., three sections of leather substrate from at least 12 sides of leather) must be tested to determine the water-resistant characteristics of the leather.

III. How Did We Respond to Significant Comments?

This section presents a summary of our responses to significant public comments received on the proposed rule. A comprehensive summary of public comments and responses can be found in the document entitled “Public Comments and EPA Responses to the Proposed NESHAP for Leather Finishing Operations” (Docket No. A-99-38).

A. Rule Applicability

Comment: One commenter requested that provisions in the rule should clarify that the “once in, always in” policy for MACT standards will not apply in certain cases. Primarily, this provision would apply to sources that have subsequently implemented pollution-prevention techniques to reduce HAP emissions from the source. If the source is able to reduce its emission level such that the source is no longer considered a major source, the source can then be excluded from the MACT requirements.

Response: EPA has been working to develop regulatory options that would allow qualifying sources to satisfy the MACT requirements through innovative, streamlined approaches, if, after a source achieves compliance with an applicable MACT rule, it achieves HAP emissions reductions equivalent to or better than MACT levels of control through pollution-prevention measures. The regulatory options under consideration will include components that meet the legal requirements of the CAA and still resolve the issues regarding pollution prevention. We plan to develop rule language to propose to amend either the NESHAP General Provisions or existing MACT rules. We project proposing these amendments later in 2002.

B. MACT Floor Determination

Comment: One commenter stated that the original HAP emission data submitted by the source for 1997 operations did not include ethylene glycol monobutyl ether acetate (EGBE) (CAS No. 112-07-2). The total HAP emissions including EGBE is nearly twice the value of their original HAP emissions submission. The commenter is concerned that other leather finishing operations may have excluded EGBE from their respective total HAP emissions estimated. The commenter also requested that the MACT floor be determined only from sources that have included EGBE in their total HAP emissions estimate.

Response: In 1999, we distributed a second industry survey to ensure that all leather finishing operations had reported all 1997 HAP emissions, including glycol ethers and specifically, EGBE. Initially, we decided not to use the glycol ethers data gathered from the second industry survey in the MACT floor determinations for the proposed rule because of some observed inconsistencies with the reported data. Upon further evaluation of the glycol ether data, we have been able to resolve the inconsistencies. As a result, the total HAP emissions reported from six sources have been adjusted. Four sources resulted in higher total HAP emissions and two sources resulted in lower HAP emissions. The total HAP emissions adjustments affected the MACT determination for existing sources with any of the following three product process operations: (1) Upholstery leather (less than 4 grams finish add-on per square foot), (2) water-resistant/specialty leather, and (3) nonwater-resistant leather. In addition, the total HAP emissions adjustments affected the MACT determination for new sources with upholstery leather (less than 4 grams finish add-on per square foot) product process operations.

We revised the MACT determinations for existing and new sources with upholstery leather (less than 4 grams finish add-on per square foot) product process operations as a sole result of adjustments to reported total HAP emissions. The MACT emission limit for existing sources in the upholstery leather (less than 4 grams finish add-on per square foot) product process operations decreased from 7.1 to 6.8 pounds of HAP per 1,000 square feet of leather processed. The MACT emission limit for new sources in the upholstery leather (less than 4 grams finish add-on per square foot) product process operations decreased from 2.9 to 2.5 pounds of HAP per 1,000 square feet of leather processed.

We revised the MACT determinations for existing sources with water-resistant/specialty leather and nonwater-resistant leather product process operations as a result of adjustments to the reported total HAP emissions and modifications to the definitions of these two product process operations. We reassigned specialty leather processes from the nonwater-resistant product process operation to the water-resistant product process operation based on greater similarities in applied coatings. Both specialty and water-resistant leather require the application of resins to produce the special color, texture, and water-resistant qualities.

Comment: Two commenters requested a recalculation of the MACT floor to exclude leather finishing operations that have closed since the initial survey of industry data in 1998. The commenters noted that four leather finishing operations have closed since 1998. One commenter also noted that one operation was recently sold to another company.

Response: The commenters are correct that four leather finishing operations have closed. The determination of a MACT floor is based on a single period in time. For the leather finishing operations NESHAP, the MACT floor performance levels are based on industry performance data for calendar year 1997. Emissions and production rates are dynamic and may change since the selected performance period. Since the data obtained from the industry were considered representative for calendar year 1997, we have decided to make no changes to the MACT floor HAP emission limits to account for recent facility closings. In this regard, we note that no commenter suggested that the emission information from these now-closed facilities was inaccurate or unrepresentative. We are not aware of any such deficiencies. Our view is the data are both accurate and representative, thus we do not see any technical reason for not including this information in a calculation of emissions reductions reflecting MACT.

C. Product Process Operations

Comment: Two commenters requested that we establish an additional leather product process operation and corresponding MACT floor performance level for “specialty” leather finishing. The commenters stated that no suitable method has been developed to replace the solvents necessary for the finishing of specialty leathers. At the sources' current HAP emission rates, the sources will be unable to achieve the MACT performance levels. In addition, one commenter requested that the additional product process operation be assigned a HAP emission limit of no less than 6.0 pounds of HAP per 1,000 square feet of leather processed.

Response: Based on a review of additional information provided by one of the commenters on specialty leather processing operations, we have decided to modify and expand the definition of the water-resistant leather product process operations to specifically include specialty leather finishing. Under the proposed rule, we categorized specialty leather finishing as a nonwater-resistant leather product process operation. The two sources identified with specialty leather finishing operations have now shifted from the nonwater-resistant product process operation to the water-resistant/specialty product process operation. Thus, we have revised the MACT determination for these two product process operations to reflect the updated set of affected sources with each product process operation. However, we cannot arbitrarily assign a MACT performance level to a product process operation such as the 6.0 pounds of HAP per 1,000 square feet of leather processed, as suggested by commenters, especially without providing any supporting information. The MACT floor for existing sources in each leather product process operation must be determined as the average emission limitation achieved by the best performing 12 percent. In cases where 30 or fewer sources exist in a source category, or subcategory (the situation here for nonwater-resistant leather product process operations), the MACT floor is defined as the average emission limitation achieved by the best performing five sources.

The MACT emission limits for the water-resistant/specialty and nonwater-resistant leather product process operations are based on the top five sources included in the revised definition of these two product process operations. The revised emission limits include all appropriate adjustments for variability and glycol ethers data from the second industry survey, as discussed in a previous comment concerning EGBE. As a result of the revised process definitions and adjustments for glycol ethers, the MACT emission limit for existing sources in the modified water-resistant/specialty leather product process operations has decreased from 5.9 to 5.6 pounds of HAP per 1,000 square feet of leather processed. The MACT emission limit for existing sources in the nonwater-resistant leather product process operations increased from 3.4 to 3.7 pounds of HAP per 1,000 square feet of leather processed. Under the proposed rule, specialty leather operations were established with an emission limit of 3.4 pounds of HAP per 1,000 square feet of leather processed as a nonwater-resistant product process operation. Under the final rule, specialty leather operations are now established with an increased emission limit of 5.6 pounds of HAP per 1,000 square feet of leather processed as a water-resistant/specialty product process operation.

D. Definitions

Comment: One commenter requested that the definition of leather “finishing” be expanded to include coatings, such as dyes and pigments, that are not film-forming materials.

Response: The EPA agrees with the commenter and the final rule reflects a revised definition of leather finishing. The definition now states “Leather finishing adjusts and improves the physical and aesthetic characteristics of the leather surface through the multistage application of a coating comprising dyes, pigments, film-forming materials, and performance modifiers dissolved or suspended in liquid carriers.”

IV. What Are the Administrative Requirements for This Rule?

A. Executive Order 12866, Regulatory Planning and Review

Under Executive Order 12866 (58 FR 51735, October 4, 1993), we must determine whether the regulatory action is “significant” and therefore subject to Office of Management and Budget (OMB) review and the requirements of the Executive Order. The Executive Order defines “significant regulatory action” as one that is likely to result in a rule that may:

(1) Have an annual effect on the economy of $100 million or more, or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs, or the rights and obligation of recipients thereof; or

(4) raise novel legal or policy issues arising out of legal mandates, the President's priorities, or the principles set forth in the Executive Order.

Pursuant to the terms of Executive Order 12866, it has been determined that today's final rule is not a “significant regulatory action” because it will not have an annual effect on the economy of $100 million and is therefore not subject to OMB review.

B. Executive Order 13132, Federalism

Executive Order 13132, entitled “Federalism” (64 FR 43255, August 10, 1999), requires EPA to develop an accountable process to ensure “meaningful and timely input by State and local officials in the development of regulatory policies that have federalism implications.” “Policies that have federalism implications” is defined in the Executive Order to include rules that have “substantial direct effects on the States, on the relationship between the national government and the States, or on the distribution of power and responsibilities among the various levels of government.” Under Executive Order 13132, EPA may not issue a rule that has federalism implications, that imposes substantial direct compliance costs, and that is not required by statute, unless the Federal government provides the funds necessary to pay the direct compliance costs incurred by State and local governments, or EPA consults with State and local officials early in the process of developing the rule. The EPA also may not issue a rule that has federalism implications and that preempts State law unless the Agency consults with State and local officials early in the process of developing the rule.

If EPA complies by consulting, Executive Order 13132 requires EPA to provide to OMB, in a separately identified section of the preamble to the rule, a federalism summary impact statement (FSIS). The FSIS must include a description of the extent of EPA's prior consultation with State and local officials, a summary of the nature of their concerns and the Agency's position supporting the need to issue the rule, and a statement of the extent to which the concerns of State and local officials have been met. Also, when EPA transmits a final rule with federalism implications to OMB for review pursuant to Executive Order 12866, EPA must include a certification from the Agency's Federalism Official stating that EPA has met the requirements of Executive Order 13132 in a meaningful and timely manner.

Today's final rule will not have substantial direct effects on the States, on the relationship between the national government and the States, or on the distribution of power and responsibilities among the various levels of government, as specified in Executive Order 13132. This is because today's final rule applies to affected sources in the leather finishing industry, not to States or local governments. Nor will State law be preempted, or any mandates be imposed on States or local governments. Thus, the requirements of section 6 of the Executive Order do not apply to this final rule. The EPA notes, however, that although not required to do so by this Executive Order (or otherwise), it did consult with State governments during development of today's final rule.

C. Executive Order 13175, Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include rules that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. Thus, Executive Order 13175 does not apply to this rule.

D. Executive Order 13045, Protection of Children From Environmental Health Risks and Safety Risks

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, EPA must evaluate the environmental health or safety effects of the planned rule on children, and explain why the planned rule is preferable to other potentially effective and reasonably feasible alternatives considered by EPA.

The EPA interprets Executive Order 13045 as applying only to those regulatory actions that are based on health or safety risks, such that the analysis required under section 5-501 of the Executive Order has the potential to influence the rule. Today's final rule is not subject to Executive Order 13045 because it establishes environmental standards based on technology, not health or safety risks. No children's risk analysis was performed because no alternative technologies exist that would provide greater stringency at a reasonable cost. Furthermore, today's final rule has been determined not to be “economically significant” as defined under Executive Order 12866.

E. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any 1 year. Before promulgating an EPA rule for which a written statement is needed, section 205 of the UMRA generally requires the EPA to identify and consider a reasonable number of regulatory alternatives and adopt the least-costly, most cost-effective, or least-burdensome alternative that achieves the objectives of the rule. The provisions of section 205 do not apply when they are inconsistent with applicable law. Moreover, section 205 allows the EPA to adopt an alternative other than the least-costly, most cost-effective, or least-burdensome alternative if the Administrator publishes with the final rule an explanation why that alternative was not adopted. Before the EPA establishes any regulatory requirements that may significantly or uniquely affect small governments, including tribal governments, it must have developed under section 203 of the UMRA a small government agency plan. The plan must provide for notifying potentially affected small governments, enabling officials of affected small governments to have meaningful and timely input in the development of our regulatory proposals with significant Federal intergovernmental mandates, and informing, educating, and advising small governments on compliance with the regulatory requirements.

The EPA has determined that this final rule does not contain a Federal mandate that may result in expenditures of $100 million or more for State, local, and tribal governments, in the aggregate, or the private sector in any 1 year. The total annual cost of this final rule for any 1 year has been estimated at $440,000 per year. Thus, today's final rule is not subject to the requirements of sections 202 and 205 of the UMRA.

We have determined that today's final rule contains no regulatory requirements that might significantly or uniquely affect small governments because it contains no requirements that apply to such governments or impose obligations upon them. Therefore, today's final rule is not subject to the requirements of section 203 of the UMRA.

F. Regulatory Flexibility Act (RFA), as Amended by the Small Business Regulatory Enforcement Fairness Act of 1996 (SBREFA), 5 U.S.C. 601 et seq.

The RFA generally requires us to give special consideration to the effect of Federal regulations on small entities and to consider regulatory options that might mitigate any such impacts. We must prepare a regulatory flexibility analysis unless we determine that the rule will not have a “significant economic impact on a substantial number of small entities.” Small entities include small businesses, small organizations, and small governmental jurisdictions.

For purposes of assessing the impacts of today's final rule on small entities, small entity is defined as: (1) A small business whose parent company has fewer than 500 employees; (2) a small governmental jurisdiction that is a government of a city, county, town, school district, or special district with a population of less than 50,000; and (3) a small organization that is any not-for-profit enterprise which is independently owned and operated and is not dominant in its field.

After considering the economic impacts of today's final rule on small entities, we have determined that this action will not have a significant economic impact on a substantial number of small entities. There are currently a total of 16 facilities that are major sources of HAP emissions and affected by this final rule. The industry is characterized as having some finishing operations that are relatively small, often specializing in the manufacture of leather with unique attributes, while others employ several hundred people and produce a wide variety of leathers. However, many of the smaller leather finishing operations are owned by ultimate parent firms that are classified as large corporations. Also, this industry typically operates with more than 300 establishments, so only a small fraction of the firms in the industry are impacted by the final rule. We determined that the 16 affected facilities are owned by 14 parent firms, and only three of these firms are classified as small by the previously mentioned definition. Nearly all of the firms (small and large) have very minimal impacts which range from 0.00 percent to 0.09 percent of firm revenues. Only one firm of the 14 will experience compliance costs that exceed 1 percent of firm revenues (1.52 percent), and this firm is a small business. This impact, however, is not considered significant for this industry. Typical profit margins for the leather industry average 3.5 percent.

Although this final rule will not have a significant economic impact on a substantial number of small entities, we nonetheless have tried to reduce the impact of this final rule on small entities. We have worked closely with the Leather Industry of America in determining the form of the standard and establishing methods for minimizing the compliance burden. This outreach included a series of meetings over a 2-year period and our attendance at the industry's annual regulatory meeting of the Leather Industry of America. These meetings and outreach provided updates to the industry on the progress of the final rule and also forecasting the timeline for compliance with the final rule. In addition, these meetings provided us with useful information that we used in developing the final rule. For instance, currently no facilities use add-on control devices, and we anticipate that no facilities will need to install a device to achieve compliance with the final rule. This will minimize costs to achieve compliance as well as simplify demonstrating compliance since already maintained purchase and usage records are all that will be needed to demonstrate compliance. We are also requiring that compliance demonstrations be conducted monthly, rather than on a daily basis, which we believe will reduce the amount of records necessary to demonstrate compliance with the final rule. Furthermore, we require the minimum monitoring, recordkeeping, and reporting requirements specified in the NESHAP General Provisions (40 CFR part 63, subpart A).

G. Paperwork Reduction Act

The information collection requirements in today's final rule will be submitted for approval to the OMB under the Paperwork Reduction Act, 44 U.S.C. 3501 et seq. The EPA has prepared an Information Collection Request (ICR) document (ICR No. 1985-02), and you may obtain a copy from Sandy Farmer by mail at the U.S. EPA, Office of Environmental Information, Collection Strategies Division (2822), 1200 Pennsylvania Avenue, NW, Washington, DC 20460, by e-mail at farmer.sandy@epa.gov, or by calling (202) 260-2740. A copy may also be downloaded off the internet at http://www.epa.gov/icr. The information requirements are not effective until OMB approves them.

The information requirements are based on notification, recordkeeping, and reporting requirements in the NESHAP General Provisions (40 CFR part 63, subpart A), which are mandatory for all operators subject to national emission standards. These recordkeeping and reporting requirements are specifically authorized by section 114 of the CAA (42 U.S.C. 7414). All information submitted to the EPA pursuant to the recordkeeping and reporting requirements for which a claim of confidentiality is made is safeguarded according to EPA policies set forth in 40 CFR part 2, subpart B.

The annual monitoring, reporting, and recordkeeping burden for this collection for all affected facilities, as averaged over the first 3 years after the effective date of the rule, is estimated to be 485 labor hours per year at a total annual cost of $21,600. The total 3-year burden of monitoring, recordkeeping, and reporting for this collection for all affected facilities is estimated at 1,455 labor hours at a total annual cost of $64,700. There are no required capital and operations and maintenance costs for the leather finishing operations NESHAP. This estimate includes a one-time plan for demonstrating compliance, annual compliance certificate reports, notifications, and recordkeeping.

Burden means the total time, effort, or financial resources people spend to generate, maintain, keep, or disclose to or for a Federal agency. This includes the time needed to review instructions; develop, acquire, install, and use technology and systems to collect, validate, and verify information; process, maintain, disclose, and provide information; adjust ways to comply with any previously applicable instructions and requirements; train people to respond to a collection of information; search data sources; collect and review information; and transmit or otherwise disclose the information.

An Agency may not conduct or sponsor, and a person is not required to respond to, a collection of information unless it displays a currently valid OMB control number. The OMB control numbers for EPA's rules are in 40 CFR part 9 and 48 CFR chapter 15.

H. National Technology Transfer and Advancement Act of 1995

Under section 12(d) of the National Technology Transfer and Advancement Act (NTTAA) of 1995 (Pub. L. No. 104-113), all Federal agencies are required to use voluntary consensus standards (VCS) in their regulatory and procurement activities unless to do so would be inconsistent with applicable law or otherwise impractical. Voluntary consensus standards are technical standards (

e.g., materials specifications, test methods, sampling procedures, business practices) developed or adopted by one or more voluntary consensus bodies. The NTTAA requires Federal agencies to provide Congress, through annual reports to the OMB, with explanations when an agency does not use available and applicable VCS.

Consistent with the NTTAA, the EPA conducted a search for EPA Method 311 (Analysis of Hazardous Air Pollutant Compounds in Paints and Coatings by Direct Injection into a Gas Chromatograph) and found no candidate VCS for use in identifying glycol ethers, toluene, and xylene. This final rule references the National Emission Standards for Closed Vent Systems, Control Devices, Recovery Devices, and Routing to a Fuel Gas System or a Process (40 CFR part 63, subpart SS). Since there are no new technical standard requirements resulting from specifying subpart SS in this final rule, and no candidate consensus standards were identified for EPA Method 311 (glycol ethers, toluene, and xylene), EPA is not adopting any VCS in today's final rule.

Section 63.5290(a) of today's final rule lists EPA Method 311. The EPA Method 311 has been used by States and industry for approximately 5 years. Nevertheless, under § 63.7(f) of 40 CFR part 63, subpart A, today's final rule allows any State or source to apply to EPA for permission to use an alternative method in lieu of EPA Method 311 listed in § 63.5290(a).

I. Congressional Review Act

The Congressional Review Act, 5 U.S.C. 801, et seq., as added by the SBREFA, generally provides that before a rule may take effect, the agency promulgating the rule must submit a rule report, which includes a copy of the rule, to each House of the Congress and to the Comptroller General of the United States. The EPA will submit a report containing this final rule and other required information to the U.S. Senate, the U.S. House of Representatives, and the Comptroller General of the United States prior to publication of the rule in the Federal Register. A major rule cannot take effect until 60 days after it is published in the Federal Register. This action is not a “major rule” as defined by 5 U.S.C. 804(2), and therefore will be effective February 27, 2002.

J. Executive Order 13211, Actions Concerning Regulations That Significantly Affect Energy Supply, Distribution, or Use

This rule is not subject to Executive Order 13211, “Actions Concerning Regulations That Significantly Affect Energy Supply, Distribution, or Use” (66 FR 28355, May 22, 2001) because it is not a significant regulatory action under Executive Order 12866.

List of Subjects in 40 CFR Part 63

Environmental protection, Administrative practice and procedure, Air pollution control, Hazardous substances, Incorporation by reference, Intergovernmental relations, Reporting and recordkeeping requirements.

Dated: February 13, 2002.
Christine Todd Whitman,
Administrator.

For the reasons stated in the preamble, title 40, chapter I, part 63 of the Code of the Federal Regulations is amended as follows:

PART 63—[AMENDED]

1. The authority citation for part 63 continues to read as follows:

Authority: 42 U.S.C. 7401, et seq.

Subpart A—[Amended]

2. Section 63.14 is amended by adding and reserving paragraphs (b)(19) and (b)(20), and adding paragraph (b)(21) to read as follows:

§ 63.14 Incorporation by reference.

* * * * *

(b) * * *

(19) [Reserved]

(20) [Reserved]

(21) ASTM D2099-00, Standard Test Method for Dynamic Water Resistance of Shoe Upper Leather by the Maeser Water Penetration Tester, IBR approved for § 63.5350.

* * * * *

3. Part 63 is amended by adding subpart TTTT to read as follows:

Subpart TTTT—National Emission Standards for Hazardous Air Pollutants for Leather Finishing Operations

Sec.
What This Subpart Covers
63.5280 What is the purpose of this subpart?
63.5285 Am I subject to this subpart?
63.5290 What parts of my facility does this subpart cover?
63.5295 When do I have to comply with this subpart?
Standards
63.5305 What emission standards must I meet?
Compliance Requirements
63.5320 How does my affected major source comply with the HAP emission standards?
63.5325 What is a plan for demonstrating compliance and when must I have one in place?
63.5330 How do I determine the compliance ratio?
63.5335 How do I determine the actual HAP loss?
63.5340 How do I determine the allowable HAP loss?
63.5345 How do I distinguish between the two upholstery product process operations?
63.5350 How do I distinguish between the water-resistant/specialty and nonwater-resistant leather product process operations?
63.5355 How do I monitor and collect data to demonstrate continuous compliance?
63.5360 How do I demonstrate continuous compliance with the emission standards?
Testing and Initial Compliance Requirements
63.5375 When must I conduct a performance test or initial compliance demonstration?
63.5380 How do I conduct performance tests?
63.5385 How do I measure the quantity of finish applied to the leather?
63.5390 How do I measure the HAP content of a finish?
63.5395 How do I measure the density of a finish?
63.5400 How do I measure the quantity of leather processed?
Notifications, Reports, and Records
63.5415 What notifications must I submit and when?
63.5420 What reports must I submit and when?
63.5425 When must I start recordkeeping to determine my compliance ratio?
63.5430 What records must I keep?
63.5435 In what form and how long must I keep my records?
Other Requirements and Information
63.5450 What parts of the General Provisions apply to me?
63.5455 Who administers this subpart?
63.5460 What definitions apply to this subpart?
Figure to Subpart TTTT of Part 63
Figure 1 to Subpart TTTT of Part 63—Example Logs for Recording Leather Finish Use and HAP Content
Tables to Subpart TTTT of Part 63
Table 1 to Subpart TTTT of Part 63—Leather Finishing HAP Emission Limits for Determining the Allowable HAP Loss
Table 2 to Subpart TTTT of Part 63—Applicability of General Provisions to Subpart TTTT

What This Subpart Covers

§ 63.5280 What is the purpose of this subpart?

This subpart establishes national emission standards for hazardous air pollutants (NESHAP) for leather finishing operations. These standards limit HAP emissions from specified leather finishing operations. This subpart also establishes requirements to demonstrate initial and continuous compliance with the emission standards.

§ 63.5285 Am I subject to this subpart?

(a) You are subject to this subpart if you own or operate a leather finishing operation that is a major source of hazardous air pollutants (HAP) emissions or that is located at, or is part of, a major source of HAP emissions. A leather finishing operation is defined in § 63.5460. In general, a leather finishing operation is a single process or group of processes used to adjust and improve the physical and aesthetic characteristics of the leather surface through multistage application of a coating comprised of dyes, pigments, film-forming materials, and performance modifiers dissolved or suspended in liquid carriers.

(b) You are a major source of HAP emissions if you own or operate a plant site that emits or has the potential to emit any single HAP at a rate of 10 tons (9.07 megagrams) or more per year or any combination of HAP at a rate of 25 tons (22.68 megagrams) or more per year.

(c) You are not subject to this subpart if your source finishes leather solely for the purpose of research and development.

§ 63.5290 What parts of my facility does this subpart cover?

(a) This subpart applies to each new, reconstructed, or existing affected source at leather finishing operations.

(b) The affected source subject to this subpart is the collection of all equipment and activities used for the multistage application of finishing materials to adjust and improve the physical and aesthetic characteristics of the leather surface. This subpart applies to the leather finishing operations listed in paragraphs (b)(1) through (4) of this section and as defined in § 63.5460, whether or not the operations are collocated with leather tanning operations:

(1) Upholstery leather with greater than or equal to 4 grams finish add-on per square foot of leather;

(2) Upholstery leather with less than 4 grams finish add-on per square foot of leather;

(3) Water-resistant/specialty leather; and

(4) Nonwater-resistant leather.

(c) An affected source does not include portions of your leather finishing operation that are listed in paragraphs (c)(1) and (2) of this section:

(1) Equipment used solely with leather tanning operations; and

(2) That portion of your leather finishing operation using a solvent degreasing process, such as in the manufacture of leather chamois, that is already subject to the Halogenated Solvent Cleaning NESHAP (40 CFR part 63, subpart T).

(d) An affected source is a new affected source if you commenced construction of the affected source on or after October 2, 2000, and you meet the applicability criteria at the time you commenced construction.

(e) An affected source is reconstructed if you meet the criteria as defined in § 63.2.

(f) An affected source is existing if it is not new or reconstructed.

§ 63.5295 When do I have to comply with this subpart?

(a) If you have a new or reconstructed affected source, you must comply with this subpart according to paragraphs (a)(1) and (2) of this section:

(1) If you startup your affected source before February 27, 2002, then you must comply with the emission standards for new and reconstructed sources in this subpart no later than February 27, 2002.

(2) If you startup your affected source after February 27, 2002, then you must comply with the emission standards for new and reconstructed sources in this subpart upon startup of your affected source.

(b) If you have an existing affected source, you must comply with the emission standards for existing sources no later than February 28, 2005.

(c) If you have an area source that increases its emissions or its potential to emit such that it becomes a major source of HAP and an affected source subject to this subpart, paragraphs (c)(1) and (2) of this section apply.

(1) An area source that meets the criteria of a new affected source, as specified at § 63.5290(d), or a reconstructed affected source, as specified at § 63.5290(e), must be in compliance with this subpart upon becoming a major source.

(2) An area source that meets the criteria of an existing affected source, as specified at § 63.5290(f), must be in compliance with this subpart no later than 3 years after it becomes a major source.

(d) You must meet the notification requirements in § 63.5415 and in subpart A of this part. Some of the notifications must be submitted before you are required to comply with the emission standards in this subpart.

Standards

§ 63.5305 What emission standards must I meet?

The emission standards limit the number of pounds of HAP lost per square foot of leather processed. You must meet each emission limit in Table 1 of this subpart that applies to you.

Compliance Requirements

§ 63.5320 How does my affected major source comply with the HAP emission standards?

(a) All affected sources must be in compliance with the requirements of this subpart at all times, including periods of startup, shutdown, and malfunction.

(b) You must always operate and maintain your affected source, including air pollution control and monitoring equipment, according to the provisions in § 63.6(e)(1)(i).

(c) You must perform all of the items listed in paragraphs (c)(1) through (10) of this section:

(1) Submit the necessary notifications in accordance with § 63.5415.

(2) Develop and implement a plan for demonstrating compliance in accordance with § 63.5325.

(3) Submit the necessary reports in accordance with § 63.5420.

(4) Keep a finish inventory log, as specified at § 63.5335(b), to record monthly the pounds of each type of finish applied for each leather product process operation and the mass fraction of HAP in each applied finish. You may be required to start recordkeeping prior to the compliance dates specified at § 63.5295.

(5) Keep an inventory log, as specified at § 63.5430(f), to record monthly the surface area of leather processed in 1,000's of square feet for each product process operation. You may be required to start recordkeeping prior to the compliance dates specified at § 63.5295.

(6) Determine the actual HAP loss from your affected source in accordance with § 63.5335.

(7) Determine the allowable HAP loss for your affected source in accordance with § 63.5340.

(8) Determine the compliance ratio for your affected source each month as specified at § 63.5330. The compliance ratio compares your actual HAP loss to your allowable HAP loss for the previous 12 months.

(9) Maintain the compliance ratio for your affected source at or below 1.00 in accordance with § 63.5330.

(10) Maintain all the necessary records you have used to demonstrate compliance with this subpart in accordance with § 63.5430.

§ 63.5325 What is a plan for demonstrating compliance and when must I have one in place?

(a) You must develop and implement a written plan for demonstrating compliance that provides the detailed procedures you will follow to monitor and record data necessary for demonstrating compliance with this subpart. Procedures followed for quantifying HAP loss from the source and amount of leather processed vary from source to source because of site-specific factors such as equipment design characteristics and operating conditions. Typical procedures include one or more accurate measurement methods such as weigh scales and volumetric displacement. Because the industry does not have a uniform set of procedures, you must develop and implement your own site-specific plan for demonstrating compliance not later than the compliance date for your source. You must also incorporate the plan for demonstrating compliance by reference in the source's title V permit. The plan for demonstrating compliance must include the items listed in paragraphs (a)(1) through (7) of this section:

(1) The name and address of the owner or operator.

(2) The physical address of the leather finishing operation.

(3) Provide a detailed description of all methods of measurement your source will use to determine your finish usage, HAP content of each finish, quantity of leather processed, and leather product process operation type.

(4) Specify when each measurement will be made.

(5) Provide examples of each calculation you will use to determine your compliance status. Include examples of how you will convert data measured with one parameter to other terms for use in compliance determination.

(6) Provide example logs of how data will be recorded.

(7) Provide a quality assurance/quality control plan to ensure that the data continue to meet compliance demonstration needs.

(b) You may be required to revise your plan for demonstrating compliance. We may require reasonable revisions if the procedures lack detail, are inconsistent, or do not accurately determine finish usage, HAP content of each finish, quantity of leather processed, or leather product process operation type.

§ 63.5330 How do I determine the compliance ratio?

(a) When your source has processed leather for 12 months, you must determine the compliance ratio for your affected source by the fifteenth of each month for the previous 12 months.

(b) You must determine the compliance ratio using Equation 1 of this section as follows:

Where:

Actual HAP Loss = Pounds of actual HAP loss for the previous 12 months, as determined in § 63.5335.

Allowable HAP Loss = Pounds of allowable HAP loss for the previous 12 months, as determined in § 63.5340.

(1) If the value of the compliance ratio is less than or equal to 1.00, your affected source was in compliance with the applicable HAP emission limits of this subpart for the previous month.

(2) If the value of the compliance ratio is greater than 1.00, your affected source was deviating from compliance with the applicable HAP emission limits of this subpart for the previous month.

§ 63.5335 How do I determine the actual HAP loss?

(a) This section describes the information and procedures you must use to determine the actual HAP loss from your leather finishing operation. By the fifteenth of each month, you must determine the actual HAP loss in pounds from your leather finishing operation for the previous month.

(b) Use a finish inventory log to record the pounds of each type of finish applied for each leather product process operation and the mass fraction of HAP in each applied finish. Figure 1 of this subpart shows an example log for recording the minimum information necessary to determine your finish usage and HAP loss. The finish inventory log must contain, at a minimum, the information for each type of finish applied listed in paragraphs (b)(1) through (7) of this section:

(1) Finish type.

(2) Pounds (or density and volume) of each finish applied to the leather.

(3) Mass fraction of HAP in each applied finish.

(4) Date of the recorded entry.

(5) Time of the recorded entry.

(6) Name of the person recording the entry.

(7) Product process operation type.

(c) To determine the pounds of HAP loss for the previous month, you must first determine the pounds of HAP loss from each finish application according to paragraph (c)(1) or (2) of this section.

(1) For facilities not using add-on emission control devices, the entire HAP content of the finishes are assumed to be released to the environment. Using the finish inventory log, multiply the pounds of each recorded finish usage by the corresponding mass fraction of HAP in the finish. The result is the HAP loss in pounds from each finish application. Sum the pounds of HAP loss from all finish applications recorded during the previous month to determine the total monthly HAP loss in pounds from your finishing operation.

(2) For facilities using add-on emission control devices, the finish inventory log and the emission reduction efficiency of the add-on capture and control devices can be used to determine the net HAP loss in pounds. The emission reduction efficiency for a control device must be determined from a performance test conducted in accordance with §§ 63.5375 and 63.5380. Using the finish inventory log, multiply the pounds of each recorded finish usage by the corresponding mass fraction of HAP in the finish. The result is the gross HAP loss in pounds from each finish application prior to the add-on control device. Multiply the gross HAP loss by the percent emission reduction achieved by the add-on control device and then subtract this amount from the gross HAP loss. The result is the net HAP loss in pounds from each finish application. Sum the pounds of net HAP loss from all finish applications recorded during the previous month to determine the total monthly net HAP loss in pounds from your finishing operation.

(d) After collecting HAP loss data for 12 months, you must also determine by the fifteenth of each month the annual HAP loss in pounds by summing the monthly HAP losses for the previous 12 months. The annual HAP loss is the “actual HAP loss,” which is used in Equation 1 of § 63.5330 to calculate your compliance ratio, as described in § 63.5330.

§ 63.5340 How do I determine the allowable HAP loss?

(a) By the fifteenth of each month, you must determine the allowable HAP loss in pounds from your leather finishing operation for the previous month.

(b) To determine the allowable HAP loss for your leather finishing operation, you must select the appropriate HAP emission limit, expressed in pounds of HAP loss per 1,000 square feet of leather processed, from Table 1 of this subpart, for each type of leather product process operation performed during the previous 12 months. Under the appropriate existing or new source column, select the HAP emission limit that corresponds to each type of product process operation performed during the previous 12 months. Next, determine the annual total of leather processed in 1,000's of square feet for each product process operation in accordance with § 63.5400. Then, multiply the annual total of leather processed in each product process operation by the corresponding HAP emission limit to determine the allowable HAP loss in pounds for the corresponding leather product process operation. Finally, sum the pounds of HAP loss from all leather product process operations performed in the previous 12 months. Equation 1 of this section illustrates the calculation of allowable HAP loss as follows:

Where:

Annual Total of Leather Processed = 1,000's of square feet of leather processed in the previous 12 months in product process operation “i”.

HAP Emission Limit = From Table 1 of this subpart, the HAP emission limit in pounds of HAP loss per 1,000 square feet of leather processed for product process operation “i”.

n = Number of leather product process operation types performed during the previous 12 months.

(c) The resulting “allowable HAP loss” is used in Equation 1 of § 63.5330 to calculate your compliance ratio, as described in § 63.5330.

§ 63.5345 How do I distinguish between the two upholstery product process operations?

(a) Product process operations that finish leather for use in automobile and furniture seat coverings are categorized as an upholstery product process operation. There are two upholstery product process operations subject to the requirements of this subpart—operations with less than 4 grams of finish add-on per square foot, and operations with 4 grams or more of finish add-on per square foot. You must distinguish between the two upholstery product process operations so that you can determine which HAP emission limit in Table 1 of this subpart applies to your affected source.

(b) You must determine finish add-on by calculating the difference in mass before and after the finishing process. You may use an empirical method to determine the amount of finish add-on applied during the finishing process, as described in paragraphs (b)(1) through (4) of this section:

(1) Weigh a one square foot representative section of polyester film, paper, cardstock, or equivalent material substrate to be finished. This will provide an initial mass and surface area prior to starting the finishing process.

(2) Use a scale with an accuracy of at least 5 percent of the mass in grams of the representative section of substrate.

(3) Upon completion of these measurements, process the representative section of substrate on the finishing line as you would for a typical section of leather.

(4) After the finishing and drying process, weigh the representative section of substrate to determine the final mass. Divide the net mass in grams gained on the representative section by its surface area in square feet to determine grams per square foot of finish add-on. Equation 1 of this section illustrates this calculation, as follows:

Where:

Finish Add-On = Grams per square foot of finish add-on applied to a representative section of polyester film or equivalent material substrate.

Final Mass = Final mass in grams of representative section of polyester film or equivalent material substrate, after finishing and drying.

Initial Mass = Initial mass in grams of representative section of polyester film or equivalent material substrate, prior to finishing.

Surface Area = Surface area in square feet of a representative section of polyester film or equivalent material substrate.

(c) Any appropriate engineering units may be used for determining the finish add-on. However, finish add-on results must be converted to the units of grams of finish add-on per square foot of leather processed. If multiple representative leather sections are analyzed, then use the average of these measurements for selecting the appropriate product process operation.

§ 63.5350 How do I distinguish between the water-resistant/specialty and nonwater-resistant leather product process operations?

(a) Product process operations that finish leather for nonupholstery use are categorized as either water-resistant/specialty or nonwater-resistant product process operations. You must distinguish between the water-resistant/specialty and nonwater-resistant product process operations so that you can determine which HAP emission limit in Table 1 of this subpart applies to your affected source. Water-resistant and nonwater-resistant product process operations for nonupholstery use can be distinguished using the methods described in paragraph (b) of this section. Specialty leather product process operations for nonupholstery use can be distinguished using the criteria described in paragraph (c) of this section.

(b) To determine whether your product process operation produces water-resistant or nonwater-resistant leather, you must conduct the Maeser Flexes test method according to American Society for Testing and Materials (ASTM) Designation D2099-00 (incorporated by reference-see § 63.14) or a method approved by the Administrator.

(1) Statistical analysis of initial water penetration data performed to support ASTM Designation D2099-00 indicates that poor quantitative precision is associated with this testing method. Therefore, at a minimum, 36 leather substrate samples (i.e., three sections of leather substrate from at least 12 sides of leather), must be tested to determine the water-resistant characteristics of the leather. You must average the results of these tests to determine the final number of Maeser Flexes prior to initial water penetration.

(2) Results from leather samples indicating an average of 5,000 Maeser Flexes or more is considered a water-resistant product process operation, and results indicating less than 5,000 Maeser Flexes is considered a nonwater-resistant product process operation. However, leather samples resulting in less than 5,000 Maeser Flexes may be categorized as specialty leather in paragraph (c) of this section.

(c) To determine whether your product process operation produces specialty leather, you must meet the criteria in paragraphs (c)(1) and (2) of this section:

(1) The leather must be a select grade of chrome tanned, bark retanned, or fat liquored leather.

(2) The leather must be retanned through the application of greases, waxes, and oils in quantities greater than 25 percent of the dry leather weight. Specialty leather is also finished with higher solvent-based finishes that provide rich color, luster, or an oily/tacky feel. Specialty leather products may include, but not limited to, specialty shoe leather and top grade football leathers.

§ 63.5355 How do I monitor and collect data to demonstrate continuous compliance?

(a) You must monitor and collect data according to this section.

(b) You must collect data at all required intervals as specified in your plan for demonstrating compliance as specified at § 63.5325.

(c) For emission control devices, except for monitor malfunctions, associated repairs, and required quality assurance or control activities (including, as applicable, calibration checks and required zero and span adjustments), you must monitor continuously (or collect data at all required intervals) at all times that the affected source is operating.

(d) You may not use data recorded during monitoring malfunctions, associated repairs, and required quality assurance or control activities in data averages and calculations used to report emission or operating levels, nor may such data be used in fulfilling a minimum data availability requirement, if applicable. You must use all the data collected during all other periods in assessing the compliance ratio, and, if an emission control device is used, in assessing the operation of the control device.

§ 63.5360 How do I demonstrate continuous compliance with the emission standards?

(a) You must demonstrate continuous compliance with the emission standards in § 63.5305 by following the requirements in paragraphs (a)(1) and (2) of this section:

(1) You must collect and monitor data according to the procedures in your plan for demonstrating compliance as specified in § 63.5325.

(2) If you use an emission control device, you must collect the monitoring data according to 40 CFR part 63, subpart SS.

(3) You must maintain your compliance ratio less than or equal to 1.00, as specified at § 63.5330.

(b) You must report each instance in which you did not meet the emission standards in § 63.5305. This includes periods of startup, shutdown, and malfunction. These deviations must be reported according to the requirements in § 63.5420(b).

(c) You must conduct the initial compliance demonstration before the compliance date that is specified for your source in § 63.5295.

Testing and Initial Compliance Requirements

§ 63.5375 When must I conduct a performance test or initial compliance demonstration?

You must conduct performance tests after the installation of any emission control device that reduces HAP emissions and can be used to comply with the HAP emission requirements of this subpart. You must complete your performance tests not later than 60 calendar days before the end of the 12-month period used in the initial compliance determination.

§ 63.5380 How do I conduct performance tests?

(a) Each performance test must be conducted according to the requirements in § 63.7(e) and the procedures of § 63.997(e)(1) and (2).

(b) You may not conduct performance tests during periods of startup, shutdown, or malfunction, as specified in § 63.7(e)(1).

(c) You must conduct three separate test runs for each performance test required in this section, as specified in § 63.7(e)(3). Each test run must last at least 1 hour.

§ 63.5385 How do I measure the quantity of finish applied to the leather?

(a) To determine the amount of finish applied to the leather, you must measure the mass, or density, and volume of each applied finish.

(b) Determine the mass of each applied finish with a scale calibrated to an accuracy of at least 5 percent of the amount measured. The quantity of all finishes used for finishing operations must be weighed or have a predetermined weight.

(c) Determine the density and volume of each applied finish according to the criteria listed in paragraphs (c)(1) through (3) of this section:

(1) Determine the density of each applied finish in pounds per gallon in accordance with § 63.5395. The finish density will be used to convert applied finish volumes from gallons into mass units of pounds.

(2) Volume measurements of each applied finish can be obtained with a flow measurement device. For each flow measurement device, you must perform the items listed in paragraphs (c)(2)(i) through (v) of this section:

(i) Locate the flow sensor and other necessary equipment such as straightening vanes in or as close to a position that provides a representative flow.

(ii) Use a flow sensor with a minimum tolerance of 2 percent of the flow rate.

(iii) Reduce swirling flow or abnormal velocity distributions due to upstream and downstream disturbances.

(iv) Conduct a flow sensor calibration check at least semiannually.

(v) At least monthly, inspect all components for integrity, all electrical connections for continuity, and all mechanical connections for leakage.

(3) Volume measurements of each applied finish can be obtained with a calibrated volumetric container with an accuracy of at least 5 percent of the amount measured.

§ 63.5390 How do I measure the HAP content of a finish?

(a) To determine the HAP content of a finish, the reference method is EPA Method 311 of appendix A of 40 CFR part 63. You may use EPA Method 311, an alternative method approved by the Administrator, or any other reasonable means for determining the HAP content. Other reasonable means of determining HAP content include, but are not limited to, a material safety data sheet (MSDS) or a manufacturer's hazardous air pollutant data sheet. If the HAP content is provided on a MSDS or a manufacturer's data sheet as a range of values, then the highest HAP value of the range must be used for the determination of compliance to this standard. This value must be entered on the finish log for each type of finish applied. You are not required to test the materials that you use, but the Administrator may require a test using EPA Method 311 (or another approved method) to confirm the reported HAP content. However, if the results of an analysis by EPA Method 311 are different from the HAP content determined by another means, the EPA Method 311 results will govern compliance determinations.

(b) You may use the weighted average of the HAP content analysis as determined in paragraph (a) of this section for each finish when you perform one of the actions listed in paragraphs (b)(1) and (2) of this section:

(1) Mix your own finishes on site.

(2) Mix new quantities of finish with previous quantities of finish that may have a different HAP content.

§ 63.5395 How do I measure the density of a finish?

(a) To determine the density of a finish, the reference method is EPA Method 24 of appendix A of 40 CFR part 60. You may use EPA Method 24, an alternative method approved by the Administrator, or any other reasonable means for determining the density of a finish. Other reasonable means of determining density include, but are not limited to, an MSDS or a manufacturer's hazardous air pollutant data sheet. If the density is provided on a MSDS or a manufacturer's data sheet as a range of values, then the highest density value of the range must be used for the determination of compliance to this standard. This value must be entered on the finish log for each type of finish applied. You are not required to test the materials that you use, but the Administrator may require a test using EPA Method 24 (or another approved method) to confirm the reported density. However, if the results of an analysis by EPA Method 24 are different from the density determined by another means, the EPA Method 24 results will govern compliance determinations.

(b) You may use the weighted average of finish densities as determined in paragraph (a) of this section for each finish when you perform one of the actions listed in paragraphs (b)(1) and (2) of this section:

(1) Mix your own finishes on site.

(2) Mix new quantities of finish with previous quantities of finish that may have different densities.

(c) Equation 1 of this section may be used to determine the weighted average of finish densities, as follows:

Where:

Average Weighted Density = The average weighted density of applied finishes in pounds per gallon.

Mass = Pounds of finish “i” applied.

Density = The density of finish “i” in pounds per gallon.

n = Number of finish types applied.

§ 63.5400 How do I measure the quantity of leather processed?

(a) This section describes the information and procedures you must use to determine the quantity of leather processed at your affected source.

(1) To determine the surface area (i.e., quantity) of leather substrate processed each month at your source for each product process operation, follow the procedures in your plan for demonstrating compliance. You must consistently measure the surface area of processed leather substrate at one of the manufacturing locations listed in paragraph (a)(1)(i) or (ii) of this section:

(i) Measure the surface area of processed leather upon exiting the leather finishing operation.

(ii) Measure the surface area of processed leather upon shipment from the source.

(2) By the fifteenth of each month, you must determine the quantity of leather processed in 1,000's of square feet for each product process operation during the previous month. After collecting data on the amount of leather processed for 12 months, you must also determine by the fifteenth of each month the annual total of leather processed in 1,000's of square feet for each product process operation by summing the monthly quantities of leather processed in each product process operation for the previous 12 months. The “annual total of leather processed” in each product process operation is used in Equation 1 of § 63.5340 to calculate your allowable HAP loss as described in § 63.5340. Your allowable HAP loss is then subsequently used to calculate your compliance ratio as described in § 63.5330.

(b) To determine the surface area of leather processed at your source for each product process operation, you must use one of the methods listed in paragraphs (b)(1) and (2) of this section:

(1) Premeasured leather substrate sections being supplied by another manufacturer as an input to your finishing process.

(2) Measure the surface area of each piece of processed or shipped leather with a computer scanning system accurate to 0.1 square feet. The computer scanning system must be initially calibrated for minimum accuracy to the manufacturer's specifications. For similar leather production runs, use an average based on a minimum of 500 pieces of leather in lieu of individual measurements.

(c) Except as provided in paragraph (d) of this section, you must include the surface area of each piece of processed leather only once when determining the monthly quantity of leather processed, regardless of the number of times a piece of leather is reprocessed through a portion of the finishing operations.

(d) If a piece of leather is completely stripped of all applied finishes and reprocessed through the entire finishing operation as if it were a new piece of leather, you may recount the surface area of leather reprocessed when determining the monthly quantity of leather processed.

Notifications, Reports, and Records

§ 63.5415 What notifications must I submit and when?

(a) In accordance with §§ 63.7(b) and (c) and 63.9(b) and (h) of the General Provisions, you must submit the one-time notifications listed in paragraphs (b) through (g) of this section.

(b) As specified in § 63.9(b)(2), if you start up your affected source before February 27, 2002, you must submit an Initial Notification not later than June 27, 2002.

(c) In the Initial Notification, include the items in paragraphs (c)(1) through (4) of this section:

(1) The name and address of the owner or operator.

(2) The physical address of the leather finishing operation.

(3) Identification of the relevant standard, such as the Leather Finishing Operations NESHAP, and compliance date.

(4) A brief description of the source including the types of leather product process operations and nominal operating capacity.

(d) As specified in § 63.9(b)(1) and (2), if you startup your new or reconstructed affected source on or after February 27, 2002, you must submit an Initial Notification not later than 120 calendar days after you become subject to this subpart.

(e) If you are required to conduct a performance test, you must submit a Notification of Intent to Conduct a Performance Test at least 60 calendar days before the performance test is scheduled to begin as required in § 63.7(b)(1).

(f) You must submit a Notification of Compliance Status report not later than 60 calendar days after determining your initial 12-month compliance ratio. The notification of compliance status must contain the items in paragraphs (f)(1) through (5) of this section:

(1) The name and address of the owner or operator.

(2) The physical address of the leather finishing operation.

(3) Each type of leather product process operation performed during the previous 12 months.

(4) Each HAP identified under § 63.5390 in finishes applied during the 12-month period used for the initial compliance determination.

(5) A compliance status certification indicating whether the source complied with all of the requirements of this subpart throughout the 12-month period used for the initial source compliance determination. This certification must include the items in paragraphs (f)(5)(i) through (iii) of this section:

(i) The plan for demonstrating compliance, as described in § 63.5325, is complete and available on site for inspection.

(ii) You are following the procedures described in the plan for demonstrating compliance.

(iii) The compliance ratio value was determined to be less than or equal to 1.00, or the value was determined to be greater than 1.00.

(g) If your source becomes a major source on or after February 27, 2002, you must submit an initial notification not later than 120 days after you become subject to this subpart.

§ 63.5420 What reports must I submit and when?

(a) You must submit the first annual compliance status certification 12 months after you submit the Notification of Compliance Status. Each subsequent annual compliance status certification is due 12 months after the previous annual compliance status certification. The annual compliance status certification provides the compliance status for each month during the 12-month period ending 60 days prior to the date on which the report is due. Include the information in paragraphs (a)(1) through (5) of this section in the annual certification:

(1) The name and address of the owner or operator.

(2) The physical address of the leather finishing operation.

(3) Each type of leather product process operation performed during the 12-month period covered by the report.

(4) Each HAP identified under § 63.5390, in finishes applied during the 12-month period covered by the report.

(5) A compliance status certification indicating whether the source complied with all of the requirements of this subpart throughout the 12-month period covered by the report. This certification must include the items in paragraphs (a)(5)(i) and (ii) of this section:

(i) You are following the procedures described in the plan for demonstrating compliance.

(ii) The compliance ratio value was determined to be less than or equal to 1.00, or the value was determined to be greater than 1.00.

(b) You must submit a Deviation Notification Report for each compliance determination you make in which the compliance ratio exceeds 1.00, as determined under § 63.5330. Submit the deviation report by the fifteenth of the following month in which you determined the deviation from the compliance ratio. The Deviation Notification Report must include the items in paragraphs (b)(1) through (4) of this section:

(1) The name and address of the owner or operator.

(2) The physical address of the leather finishing operation.

(3) Each type of leather product process operation performed during the 12-month period covered by the report.

(4) The compliance ratio comprising the deviation. You may reduce the frequency of submittal of the Deviation Notification Report if the responsible agency of these NESHAP does not object.

§ 63.5425 When must I start recordkeeping to determine my compliance ratio?

(a) If you have a new or reconstructed affected source, you must start recordkeeping to determine your compliance ratio according to one of the schedules listed in paragraphs (a)(1) and (2) of this section:

(1) If the startup of your new or reconstructed affected source is before February 27, 2002, then you must start recordkeeping to determine your compliance ratio no later than February 27, 2002.

(2) If the startup of your new or reconstructed affected source is after February 27, 2002, then you must start recordkeeping to determine your compliance ratio upon startup of your affected source.

(b) If you have an existing affected source, you must start recordkeeping to determine your compliance ratio no later than February 27, 2004.

(c) If you have a source that becomes a major source of HAP emissions after February 27, 2002, then you must start recordkeeping to determine your compliance ratio immediately upon submitting your Initial Notification, as required at § 63.5415(g).

§ 63.5430 What records must I keep?

You must satisfy the recordkeeping requirements in paragraphs (a) through (g) of this section by the compliance date specified in § 63.5295.

(a) You must keep the plan for demonstrating compliance as required at § 63.5325 onsite and readily available as long as the source is operational. If you make any changes to the plan for demonstrating compliance, then you must keep all previous versions of the plan and make them readily available for inspection for at least 5 years after each revision.

(b) You must keep a copy of each notification and report that you are required to submit in accordance with this subpart.

(c) You must keep records of performance tests in accordance with this subpart.

(d) You must record and maintain a continuous log of finish usage as specified at § 63.5335(b).

(e) You must maintain all necessary records to document the methods you used and the results of all HAP content measurements of each applied finish.

(f) For each leather product process operation, you must maintain a monthly log of the items listed in paragraphs (f)(1) and (2) of this section:

(1) Dates for each leather product process operation.

(2) Total surface area of leather processed for each leather product process operation.

(g) If you use an emission control device, you must keep records of monitoring data as specified at subpart SS of this part.

§ 63.5435 In what form and how long must I keep my records?

(a) Your records must be in a form suitable and readily available for expeditious review according to § 63.10(b)(1).

(b) As specified in § 63.10(b)(1), you must keep each record for 5 years following the date of each occurrence, measurement, maintenance, corrective action, report, or record.

(c) You must keep each record onsite for at least 2 years after the date of each occurrence, measurement, maintenance, corrective action, report, or record according to § 63.10(b)(1). You can keep the records offsite for the remaining 3 years.

Other Requirements and Information

§ 63.5450 What parts of the General Provisions apply to me?

Table 2 of this subpart shows which parts of the General Provisions in §§ 63.1 through 63.15 apply to you.

§ 63.5455 Who administers this subpart?

(a) This subpart can be administered by us, the United States Environmental Protection Agency (U.S. EPA), or a delegated authority such as your State, local, or tribal agency. If the U.S. EPA Administrator has delegated authority to your State, local, or tribal agency, then that agency has the primary authority to administer and enforce this subpart. You should contact your U.S. EPA Regional Office to find out if the authority to implement and enforce this subpart is delegated to your State, local, or tribal agency.

(b) In delegating implementation and enforcement authority of this subpart to a State, local, or tribal agency under subpart E of this part, the authorities contained in paragraph (c) of this section are retained by the Administrator of U.S. EPA and are not transferred to the State, local, or tribal agency.

(c) The authorities that will not be delegated to State, local, or tribal agencies are listed in paragraphs (c)(1) through (4) of this section:

(1) Approval of alternatives to the emission standards in § 63.5305 under § 63.6(g).

(2) Approval of major alternatives to test methods under § 63.7(e)(2)(ii) and (f) and as defined in § 63.90.

(3) Approval of major alternatives to monitoring under § 63.8(f) and as defined in § 63.90.

(4) Approval of major alternatives to recordkeeping and reporting under § 63.10(f) and as defined in § 63.90.

§ 63.5460 What definitions apply to this subpart?

Terms used in this subpart are defined in the Clean Air Act, § 63.2, and in this section as follows:

Area source means any stationary source of hazardous air pollutants that is not a major source as defined in this part.

Compliance ratio means the ratio of the actual HAP loss from the previous 12 months to the allowable HAP loss from the previous 12 months. Equation 1 in § 63.5330 is used to calculate this value. If the value is less than or equal to 1.00, the source is in compliance. If the value is greater than 1.00, the source is deviating from compliance.

Deviation means any instance in which an affected source subject to this subpart, or an owner or operator of such a source:

(1) Fails to meet any requirement or obligation established by this subpart, including but not limited to any emission limits or work practice standards.

(2) Fails to meet any emission limits, operating limits, or work practice standards in this subpart during startup, shutdown, or malfunction, regardless of whether or not such failure is permitted by this subpart.

Drying means the process of removing all but equilibrium moisture from the leather. Drying methods currently in use include: toggling, hanging, pasting, and vacuum drying.

Finish add-on means the amount of solid material deposited on the leather substrate due to finishing operations. Typically, the solid deposition is a dye or other chemical used to enhance the color and performance of the leather. Finish add-on is quantified as mass per surface area of substrate, such as grams of finish add-on per square foot of leather substrate.

Hazardous air pollutants (HAP) means any substance or mixture of substances listed as a hazardous air pollutant under section 112(b) of the Clean Air Act.

Leather means the pelt or hide of an animal which has been transformed by a tanning process into a nonputrescible and useful material.

Leather finishing means a single process or group of processes used to adjust and improve the physical and aesthetic characteristics of the leather surface through the multistage application of a coating comprised of dyes, pigments, film-forming materials, and performance modifiers dissolved or suspended in liquid carriers.

Leather substrate means a nonputrescible leather surface intended for the application of finishing chemicals and materials. The leather substrate may be a continuous piece of material such as side leather or may be a combination of smaller leather pieces and leather fibers, which when joined together, form a integral composite leather material.

Leather tanning means the processes, commonly referred to as wet operations, used to purify and stabilize the collagen content of the hide. Wet operations are divided into three phases, the beamhouse (includes soaking and unhairing); the tanyard (includes bating, pickling, tanning, trimming/siding, and splitting); and the coloring department (includes retanning, coloring, and atliquoring operations).

Month means that all references to a month in this subpart refer to a calendar month.

Nonwater-resistant leather means nonupholstery leather that is not treated with any type of waterproof finish and, thus, cannot withstand 5,000 Maeser Flexes with a Maeser Flex Testing Machine or a method approved by the Administrator prior to initial water penetration. This leather is typically used for dress shoes, handbags, and garments.

Product process operation means any one of the four leather production classifications developed for ease of compliance with this subpart. The four leather product process operations are as follows: upholstery leather with greater than or equal to 4 grams finish add-on per square foot, upholstery leather with less than 4 grams finish add-on per square foot, water-resistant/specialty leather, and nonwater-resistant leather.

Specialty leather means a select grade of chrome tanned, bark retanned, or fat liquored leather that is retanned through the application of greases, waxes, and oils in quantities greater than 25 percent of the dry leather weight. Specialty leather is also finished with higher solvent-based finishes that provide rich color, luster, or an oily/tacky feel. Specialty leather products are generally low volume, high-quality leather, such as specialty shoe leather and top grade football leathers.

Upholstery leather (greater than or equal to 4 grams finish add-on per square foot) means an upholstery leather with a final finish add-on to leather ratio of 4 or more grams of finish per square foot of leather. These types of finishes are used primarily for automobile seating covers. These finishes tend to be aqueous-based.

Upholstery leather (less than 4 grams finish add-on per square foot) means an upholstery leather with a final finish add-on to leather ratio of less than 4 grams of finish per square foot of leather. These types of finishes are typically used for furniture seating covers. The finishes tend to be solvent-based and leave a thinner, softer, and more natural leather texture.

Water-resistant leather means nonupholstery leather that has been treated with one or more waterproof finishes such that the leather can withstand 5,000 or more Maeser Flexes with a Maeser Flex Testing Machine or a method approved by the Administrator prior to initial water penetration. This leather is used for outerwear, boots and outdoor applications.

Figure to Subpart TTTT of Part 63

Figure 1 to Subpart TTTT of Part 63—Example Logs for Recording Leather Finish Use and HAP Content

Month:______ Year:______

Finish Inventory Log
Finish type | Finish usage (pounds) | HAP Content (mass fraction) | Date and time | Operator's name | Product process operation

Monthly Summary of Finish Usage
| Upholstery leather (≥4 grams) | Upholstery leather (<4 grams) | Water- resistant/ specialty leather | Nonwater- resistant leather
Number of Entries |  |  |  |
Total Finish Usage (pounds) |  |  |  |
Total HAP Usage (pounds) |  |  |  |

Tables to Subpart TTTT of Part 63

As required in §§ 63.5305 and 63.5340(b), you must meet the appropriate emission limits in the following table:

Table 1 to Subpart TTTT of Part 63—Leather Finishing HAP Emission Limits for Determining the Allowable HAP Loss
Type of Leather Product Process Operation | HAP Emission Limit (pounds of HAP loss per 1,000 square feet of leather processed): Existing sources | HAP Emission Limit (pounds of HAP loss per 1,000 square feet of leather processed): New sources
1. Upholstery Leather (≥4 grams add-on/square feet) | 2.6 | 0.5
2. Upholstery Leather (<4 grams add-on/square feet) | 6.8 | 2.5
3. Water-resistant (≥5,000 Maeser Flexes)/Specialty Leather | 5.6 | 4.9
4. Nonwater-resistant Leather (<5,000 Maeser Flexes) | 3.7 | 2.1

As required in § 63.5450, you must meet the appropriate NESHAP General Provision requirements in the following table:

Table 2 to Subpart TTTT of Part 63—Applicability of General Provisions to Subpart TTTT of Part 63
General provisions citation | Subject of citation | Brief description of requirement | Applies to subpart | Explanation
§ 63.1 | Applicability | Initial applicability determination; applicability after standard established; permit requirements; extensions, notifications | Yes
§ 63.2 | Definitions | Definitions for Part 63 standards | Yes | Except as specifically provided in this subpart.
§ 63.3 | Units and abbreviations | Units and abbreviations for Part 63 standards | Yes
§ 63.4 | Prohibited activities and circumvention | Prohibited activities; compliance date; circumvention, severability | Yes
§ 63.5 | Construction/reconstruction | Applicability; applications; approvals | Yes | Except for paragraphs of § 63.5 as listed below.
§ 63.5(c) | [Reserved]
§ 63.5(d)(1)(ii)(H) | Application for approval | Type and quantity of HAP, operating parameters | No | All sources emit HAP. Subpart TTTT does not require control from specific emission points.
§ 63.5(d)(1)(i) | [Reserved]
§ 63.5(d)(1)(iii), (d)(2), (d)(3)(ii) |  | Application for approval | No | The requirements of the application for approval for new and reconstructed sources are described in § 63.5320(b). General provision requirements for identification of HAP emission points or estimates of actual emissions are not required. Descriptions of control and methods, and the estimated and actual control efficiency of such do not apply. Requirements for describing control equipment and the estimated and actual control efficiency of such equipment apply only to control equipment to which the subpart TTTT requirements for quantifying solvent destroyed by an add-on control device would be applicable.
§ 63.6 | Applicability of general provisions | Applicability of general provisions | Yes | Except for paragraphs of § 63.6 as listed below.
§ 63.6(b)(1)-(3) | Compliance dates, new and reconstructed sources |  | No | Section § 63.5283 specifies the compliance dates for new and reconstructed sources.
§ 63.6(b)(6) | [Reserved]
§ 63.6(c)(3)-(4) | [Reserved]
§ 63.6(d) | [Reserved]
§ 63.6(e) | Operation and maintenance requirements |  | Yes | Except for subordinate paragraphs of § 63.6(e) as listed below.
§ 63.6(e)(3) | Operation and maintenance requirements | Startup, shutdown, and malfunction plan requirements | No | Subpart TTTT does not have any startup, shutdown, and malfunction plan requirements.
§ 63.6(f)-(g) | Compliance with nonopacity emission standards except during SSM | Comply with emission standards at all times except during SSM | No | Subpart TTTT does not have nonopacity requirements.
§ 63.6(h) | Opacity/visible emission (VE) standards |  | No | Subpart TTTT has no opacity or visual emission standards.
§ 63.6(i) | Compliance extension | Procedures and criteria for responsible agency to grant compliance extension | Yes
§ 63.6(j) | Presidential compliance exemption | President may exempt source category from requirement to comply with subpart | Yes
§ 63.7 | Performance testing requirements | Schedule, conditions, notifications and procedures | Yes | Except for paragraphs of § 63.7 as listed below. Subpart TTTT requires performance testing only if the source applies additional control that destroys solvent. § 63.5311 requires sources to follow the performance testing guidelines of the General Provisions if a control is added.
§ 63.7(a)(2) (i) and (iii) | Performance testing requirements | Applicability and performance dates | No | § 63.5310(a) of subpart TTTT specifies the requirements of performance testing dates for new and existing sources.
§ 63.8 | Monitoring requirements |  | No | Subpart TTTT does not require monitoring other than as specified therein.
§ 63.9 | Notification requirements | Applicability and State delegation | Yes | Except for paragraphs of § 63.9 as listed below.
§ 63.9(e) | Notification of performance test | Notify responsible agency 60 days ahead | Yes | Applies only if performance testing is performed.
§ 63.9(f) | Notification of VE/opacity observations | Notify responsible agency 30 days ahead | No | Subpart TTTT has no opacity or visual emission standards.
§ 63.9(g) | Additional notifications when using a continuous monitoring system (CMS) | Notification of performance evaluation; notification using COMS data; notification that exceeded criterion for relative accuracy | No | Subpart TTTT has no CMS requirements.
§ 63.9(h) | Notification of compliance status | Contents | No | § 63.5320(d) specifies requirements for the notification of compliance status.
§ 63.10 | Recordkeeping/reporting | Schedule for reporting, record storage | Yes | Except for paragraphs of § 63.10 as listed below.
§ 63.10(b)(2) | Recordkeeping | Record startup, shutdown, and malfunction events | No | Subpart TTTT has no recordkeeping requirements for startup, shutdown, and malfunction events.
§ 63.10(c) | Recordkeeping | Additional CMS recordkeeping | No | Subpart TTTT does not require CMS.
§ 63.10(d)(2) | Reporting | Reporting performance test results | Yes | Applies only if performance testing is performed.
§ 63.10(d)(3) | Reporting | Reporting opacity or VE observations | No | Subpart TTTT has no opacity or visible emission standards.
§ 63.10(d)(4) | Reporting | Progress reports | Yes | Applies if a condition of compliance extension.
§ 63.10(d)(5) | Reporting | Startup, shutdown, and malfunction reporting | No | Subpart TTTT has no startup, shutdown, and malfunction reporting requirements.
§ 63.10(e) | Reporting | Additional CMS reports | No | Subpart TTTT does not require CMS.
§ 63.11 | Control device requirements | Requirements for flares | Yes | Applies only if your source uses a flare to control solvent emissions. Subpart TTTT does not require flares.
§ 63.12 | State authority and delegations | State authority to enforce standards | Yes
§ 63.13 | State/regional addresses | Addresses where reports, notifications, and requests are sent | Yes
§ 63.14 | Incorporation by reference | Test methods incorporated by reference | Yes
§ 63.15 | Availability of information and confidentiality | Public and confidential information | Yes

[FR Doc. 02-4064 Filed 2-26-02; 8:45 am]

BILLING CODE 6560-50-P